POSTAL SERVICE

39 CFR Part 111

[Docket No. MC 2002-1]

Changes to the Domestic Mail Manual To Implement Confirm® Service

AGENCY: Postal Service.

ACTION: Final rule.

SUMMARY: This final rule sets forth the Domestic Mail Manual (DMM) standards adopted by the Postal Service to implement the classification and fees for Confirm® service as established by the decision of the Governors of the United States Postal Service on the recommended decision of the Postal Rate Commission approving stipulation and agreement for Confirm, Docket No. MC2002-1 (August 5, 2002).

In their decision, the Governors approved the Commission's recommendations, adopting an unopposed settlement agreement concluded by all but one party in Docket No. MC2002-1. The settlement substantially incorporated the classification and fees for Confirm, as proposed by the Postal Service in its request for a recommended decision, filed on April 24, 2002.

Confirm represents a new service offering subscribers access to data and information concerning the processing of their specially prepared and barcoded automation-compatible letter-size and flat-size mail. The service combines barcode technology with the electronic infrastructure of automated Postal Service processing equipment to record and transmit data pertaining to mail prepared according to Confirm specifications.

Through the use of a unique mailer-applied barcode, called PLANET Code®, along with the appropriate delivery address POSTNET barcode, Confirm enables a mailer subscribing to the service to identify where and when barcodes printed on mail are scanned in various postal operations. Confirm can be used to provide this information for outgoing automation-compatible mail and for incoming automation-compatible reply mail.

EFFECTIVE DATE: This final rule is effective at 12:01 a.m. on September 22, 2002.

FOR FURTHER INFORMATION CONTACT: Neil Berger at (703) 292-3645 or Paul Bakshi at (703) 292-3671.

SUPPLEMENTARY INFORMATION: On April 24, 2002, the United States Postal Service, in conformance with sections 3622 and 3623 of the Postal Reorganization Act (39 U.S.C. 101 et seq.), filed a Request for a recommended decision by the Postal Rate Commission (PRC) on the proposed classification and fees for Confirm, a new service using a uniquely identifying mailer-applied barcode called PLANET Code. Using these barcodes, along with the appropriate delivery address POSTNET barcodes, enables a participating mailer to identify where and when outgoing automation-compatible mail and incoming automation-compatible reply mail are scanned in various postal operations. Confirm combines barcode technology with the electronic infrastructure of automated Postal Service processing equipment to record and transmit data for successfully scanned pieces prepared according to Confirm specifications.

On July 26, 2002, pursuant to 39 U.S.C. 3624, the Postal Rate Commission issued to the Governors of the Postal Service its Opinion and Recommended Decision Approving Stipulation and Agreement, Docket No. MC2002-1. The Commission recommended that the Postal Service proposal for Confirm be established as a permanent special service. With relatively minor modifications to the proposed language for the Domestic Mail Classification Schedule, the Commission approved the Stipulation and Agreement.

On August 5, 2002, the Board of Governors approved the recommended decision and established an implementation date of Sunday, September 22, 2002, on which the approved classification and fees for Confirm service will take effect. This final rule contains the DMM standards adopted by the Postal Service to implement the decision of the Governors.

The Postal Service has determined to issue these standards as final rules, rather than first publishing them as proposed rules seeking comments. Several considerations support this determination.

First, Confirm was developed through the joint efforts of the Postal Service and its customers over a substantial period of time. As described below in the SUPPLEMENTARY INFORMATION of this final rule, over the past seven years, more than 300 mailers, representing a wide cross-section of the mailing industry, have participated at various times in testing and evaluating the features of the service. This experience has included an operational pilot test of Confirm since 1998, involving the collection of data pertaining to significant volumes of actual mail submitted by participating mailers. Throughout these activities, mailers have provided invaluable comments and recommendations for improving and expanding Confirm, and for ensuring that the service meets the business needs and the operational requirements of the mailing industry at large. Moreover, the Postal Service has continued to solicit recommendations from the mailing industry for enhancements to the infrastructure supporting this subscriber-based service. The recommendations coming from actual customer use and testing of the whole Confirm system have greatly influenced, not only the operational characteristics incorporated into the service, as proposed in the unopposed settlement agreement and as recommended by the Postal Rate Commission, but also the standards incorporated into the rules published here.

Second, the Postal Rate Commission conducted public hearings to consider the Postal Service proposal for Confirm that were open to any interested party. Several parties participated, including major associations of mailers, the largest union representing postal workers, individuals representing themselves as mailers, and the Director of the Commission's Office of the Consumer Advocate representing the general public. This participation led to the successful negotiation of an agreement substantially incorporating the proposal presented by the Postal Service. Virtually all participants signed the settlement agreement. Only one individual representing himself did not sign, but that same individual did not oppose the settlement. Throughout the Confirm proceedings, furthermore, participants provided comments, formally through submissions for the record, as well as informally through settlement discussions. These comments reinforced the determinations leading to the Postal Service proposal, as incorporated into the settlement agreement. The Commission accepted the settlement with only minor modifications to the language describing Confirm in the Domestic Mail Classification Schedule (DMCS).

Finally, there is a strong interest in expeditious implementation of the service that is shared by mailers currently receiving and using Confirm data and information, by prospective customers, and by the Postal Service. The Board of Governors of the Postal Service has determined to implement Confirm on September 22, 2002. This date represents the earliest time that the service can be made operationally available to the public. It also provides a reasonable time for the Postal Service to process applications adding new subscribers to existing users. If the Postal Service were to delay implementation in order to solicit and receive additional comments, the effective date for Confirm could be delayed considerably, and current users and new subscribers would be denied the benefits of the valuable information that the service can provide. By implementing this new service without undue delays, the Postal Service can ensure that currently participating mailers are able to continue the service without interruption, and that new subscribers will be expeditiously integrated into the system.

Pursuant to these considerations, the Postal Service has concluded that the substantial number of comments and recommendations already received pertaining to Confirm would make further solicitation of comments unnecessary. Considering the broadly based participation in the development of Confirm over several years, and the Commission's acceptance of the unopposed settlement agreement in Docket No. MC2002-1, it is unlikely that the Postal Service would receive additional comments that would materially affect the rules. Furthermore, issuing proposed rules would present an impractical impediment to the timely implementation of the service. Delay would interfere with the public and mailer interests in being able to receive and use Confirm data as early as possible.

A. Service Description

1. Subscription Levels

The Postal Service will offer this service in a three-tiered subscription format rather than a per-transaction rate format. The three subscription levels for this format are designated as Silver, Gold, and Platinum, with the following fees, terms of service, number of identification codes, and number of scans:

• The Silver subscription level, with a $2,000 fee and a term of 3 consecutive months, entitles the subscriber to one identification code and up to 15 million scans during the term of the subscription.

• The Gold subscription level, with a $4,500 fee and a term of 12 consecutive months, entitles the subscriber to one identification code and up to 50 million scans during the term of the subscription.

• The Platinum subscription level, with a $10,000 fee and a term of 12 consecutive months, entitles the subscriber to three identification codes and an unlimited number of scans during the term of the subscription.

2. Additional Identification Codes

Subscribers to the Silver, Gold, and Platinum subscription levels can license additional identification codes for $500 for 3-month intervals or until the expiration of the underlying subscription, whichever occurs first.

The additional identification codes are valid for only 3 months or to the end of the subscription period, whichever occurs first. At the renewal time of the underlying subscription, the same additional identification codes previously licensed may also be renewed at the subscriber's option.

Subscribers may, at their option, also license up to four 3-month periods at one time for the same additional identification codes if those 3-month periods are within the underlying subscription period.

3. Additional Scans

Subscribers to the Silver and Gold subscription levels, which both have specific limits to the numbers of recorded and reported scans as part of the subscription, can also license additional scans at any time before the expiration of the underlying subscription. The blocks of additional scans are usable until the subscription period ends, however long that period. Additional blocks of scans are available as follows:

• Silver subscription level, in blocks of 2 million scans at $500.

• Gold subscription level, in blocks of 6 million scans for $750.

4. Subscription Upgrade

A Gold subscription level can also be upgraded to a Platinum subscription level any time before the expiration of the Gold subscription with the payment of the difference in the subscription fees of $5,500. Upgrading a subscription from the Gold level to the Platinum level does not extend the term of the initial subscription.

B. Service Background and Development

1. Developmental Stages

The concept and initial development of Confirm came about seven years ago and, over the course of those years, progressed through three sequential stages: (1) Initial concept, (2) pilot program, and (3) production system launch.

2. Stage One: Initial Concept

Stage one emerged in 1995 when the concept of Confirm was envisioned as a way to provide mailers with near real-time information about the movement of automation-compatible mailpieces in the Postal Service mailstream. The Postal Service decided to build such a tracking system around PLANET Code barcode technology, which had been developed and refined earlier by the Postal Service Engineering Department.

This barcode technology was considered both an effective and an expedient way to meet mailer and Postal Service requirements for these reasons:

• The technology would require minimal research and testing because it was a fully developed and validated technology.

• The technology would require minimal effort and expense for mailers to implement within the current mailing environment.

• The technology would require minimal effort and disruption for the Postal Service to modify its existing postal processing infrastructure, which already supported the similar POSTNET barcode used for delivery address barcoding.

3. Stage Two: Pilot Program

Stage two came in 1998 when the Postal Service inaugurated a limited pilot program for Confirm that permitted a small number of participating mailers to use the service without charge while it was under development. The Postal Service established a prototype system in Wilkes-Barre, Pennsylvania, to collect Confirm data from major processing facilities and then transmit data files to participating mailers via an automated FTP process. Later that same year, the Postal Service created a Web site that allowed participating mailers to view and download small amounts of data.

By 2000, however, the demand for this Web site outgrew its capacity. In response, the Postal Service moved the system to its data site in Raleigh, North Carolina, and implemented the first major system upgrade. At the same time, the Postal Service expanded customer service at its National Customer Support Center in Memphis, Tennessee.

4. Stage Three: Production System Launch

Stage three came on October 1, 2001, when the Postal Service launched the Confirm Production System with a redesign of the system itself and a transfer of its operations to the postal data site in Eagan, Minnesota. By using the superior technological capabilities at that site, the Postal Service was able to make many new system improvements to Confirm including the following:

• Near real-time access to Confirm data on the Web site.

• Expanded PLANET Code functionality.

• Verification of mail induction times.

• Dedicated customer support.

Stage three was also extremely important because it demonstrated the commitment of the Postal Service to develop activity-based costs for the program. Such a costing methodology helps determine the level of ongoing infrastructure maintenance and long-term customer support for Confirm.

C. Product Uses

1. Strategic Alignment of Business Processes

Confirm represents part of an overall integrated strategy of the Postal Service to provide greater added value to postal services and products for mailers and their customers. In keeping with this strategy, information from Confirm can give participating mailers—whether actual subscribers or mailers contracting with third-party vendors that are subscribers—new opportunities to manage and, in some cases, improve their mailing operations. Moreover, information from Confirm can help participating mailers modernize business practices, enhance decision-making, and improve related activities such as inventory control, invoicing, and remittance processing.

With information obtained from Confirm, mailers participating in the service can align various internal business functions with the appropriate resources based on the actual processing and expected delivery or return of mail. At the same time, information from Confirm allows participating mailers to strengthen and enhance current long-term customer relationships as well as to initiate and build new ones.

The potential for participating mailers and the Postal Service to manage business practices is built on straightforward information technology that can report to participating mailers when their outgoing mail has neared delivery to their customers or, in reverse, when incoming customer-mailed reply pieces have entered the mailstream for return to the participating Confirm mailers.

2. Service Applications

As a result of this possible two-way flow of outgoing mail and incoming reply mail, Confirm has been developed with two distinct service applications:

• Destination Confirm for outgoing mail such as invoices, solicitations, credit cards, and statements of account.

• Origin Confirm for incoming reply mail such as payments, orders, and responses to solicitations.

Because of these two service applications, Confirm can meet the needs of a variety of mailers, including large-volume mailers that are direct subscribers to the service as well as small-volume mailers that are not direct subscribers but can benefit from presort houses and other third-party providers that do subscribe to the service.

D. Product Technology

1. Barcoding

To generate optimal Confirm information, two distinct barcodes are needed. One is a POSTNET barcode that identifies the ZIP Code, ZIP+4 code, or delivery point code corresponding to the delivery address; the other, a PLANET Code barcode that contains specific data relating to the participating subscriber and type of mailpiece.

This resulting combination of POSTNET and PLANET Code barcodes can, in certain cases, be used to identify and distinguish specific letter-size and flat-size automation-compatible mailpieces processed and scanned on Postal Service automation equipment.

In some cases, however, a PLANET Code barcode alone can provide some useful information to the subscriber. Because Postal Service letter-sorting and flat-sorting machines can read both POSTNET and PLANET barcodes in one pass, there is no adverse impact on mail processing throughput.

2. Confirm Data

Confirm scan-data generated from a mailpiece at a given mail processing operation will consist of a five-digit ZIP Code representing the facility processing the piece, a Postal Service operation number, processing date and time, and the numeric equivalents of the POSTNET barcode and the PLANET Code barcode.

Captured and recorded data are transmitted to a central Postal Service computer server and provided to the mailer electronically in near real-time, either through the Confirm Web site or directly to the mailer's computer.

Not every scan on automated processing equipment, however, necessarily equates into a Confirm data record. Other conditions must be satisfied such as the validity or readability of identification codes in the PLANET Code barcodes.

3. PLANET Code Structure

The structure of the PLANET Code is similar to the POSTNET delivery point code. Subscribers can, however, choose whether to use a 12-digit or a 14-digit version of the PLANET Code. In terms of structure, the PLANET Code barcode currently consists of 12 or 14 digits, each represented by a combination of tall and short bars. The PLANET Code barcode symbology for each digit is therefore the inverse of each corresponding POSTNET Code digit.

For the POSTNET barcode, each of the ten digits from 0 to 9 contains a unique combination of two tall and three short bars. For the PLANET Code barcode, on the other hand, the same ten digits from 0 to 9 contain three tall and two short bars that form a reverse image of each POSTNET digit. For example, the POSTNET barcode representation for the digit zero is, from left to right, two tall bars followed by three short bars. The PLANET Code barcode for the same digit is two short bars followed by three tall bars.

The structure for the PLANET Code provides information that is unique to the participating subscriber and the mailpiece as follows:

• Digits 1 and 2. Starting from the left, the first digit of the PLANET Code represents Confirm service type—either Destination Confirm or Origin Confirm—and the second digit represents the class and shape of mail (for example, ID 40 signifies Destination Confirm for First-Class Mail letters).

• Digits 3 through 11 (or 3 through 13). The current structure of the next nine digits (or eleven digits for the expanded 14-digit PLANET Code) differs for Destination Confirm and Origin Confirm. For Destination Confirm, these digits include a five-digit ID Code assigned by the Postal Service plus four additional digits (or six for the 14-digit PLANET Code) for the mailer's use. For Origin Confirm, mailers use all nine of the remaining digits to identify either the mailpiece or the reply customer (the sender of the reply piece) or a combination of both the specific mailpiece and the reply customer. The specific POSTNET Code on the Origin Confirm piece enables the Postal Service to identify the Confirm subscriber.

• Digit 12 (or 14). For both the Destination Confirm and Origin Confirm service applications, the last digit (the twelfth digit or, if the longer 14-digit PLANET Code, the fourteenth digit) is always a check-sum digit to help mail processing equipment detect possible coding errors.

4. Data Records

The data records for each properly scanned mailpiece are compiled for importing into common database software. Depending on the subscriber's request, the Postal Service can automatically transmit the file containing the data records to the subscriber via File Transfer Protocol (FTP) at times designated by the subscriber.

The Postal Service offers an alternative to automatic transmission by posting the data records to the Postal Service Confirm Web site. A subscriber can then view and download the data records for up to 15 days.

E. Advance Shipping Notice

Destination Confirm mail requires the electronic submission of an Advance Shipping Notice (ASN) in a specific file format prior to or at the time of the mailing. ASN data include specific mailer-generated information about each Destination Confirm mailing, such as drop location, drop date, and volume.

That data can be used to link Confirm scan data captured during mail processing with the ASN mailing data. This linkage can, in turn, serve as an objective means to track the movement of specific mail at its entry point into the mailstream and at other subsequent points before delivery.

In addition to providing an electronic ASN file for each mailing, the mailer must print an associated ASN Shipment ID barcode on the documentation accompanying the mailing. This barcode is configured as a Uniform Symbology Specification (USS) Code 128 barcode, similar to the Postal Service Delivery Confirmation barcode. This ASN Shipment ID barcode ties the data contained in the uploaded ASN file with possibly thousands of properly prepared Confirm pieces in the associated mailing.

Postal Service personnel scan the ASN Shipment ID barcode using Delivery Confirmation scanners at the time of induction. This entry scan “starts the clock” for the Destination Confirm mailing and provides a base point for tracking the processing throughput used for the mail. At the same time, the participating subscriber receives an automatic electronic notification of where and when the subscriber's mail was inducted into the Postal Service.

F. Application Steps for Using Confirm

A mailer seeking to become a subscriber of Confirm must complete and submit an online or hardcopy application form. New subscribers entering the program must first demonstrate the capability of generating compliant PLANET Code barcodes by producing and submitting sample mailpieces to the Postal Service.

Subscribers must also submit samples of the Advance Shipping Notice (ASN) Shipment ID barcode that would be scanned by the Postal Service at the time the corresponding mail is entered into the mailstream. After approving the mailpieces and barcodes and receiving the applicable subscription payment, the Postal Service establishes the subscriber's Confirm account so that the subscriber can begin receiving Confirm data files either from the special Confirm Web site or directly by FTP.

After processing the application, the Postal Service assigns the new subscriber a unique identification code. To assist new subscribers in the application process and to resolve technical issues, the Postal Service provides ongoing customer support.

G. Goals of Confirm

Confirm has two major goals. First, information from the service can help mailers improve their business processes and enhance customer relationships. Second, the same information can help the Postal Service improve customer service and operational efficiency. As such, this new service will support the strategic goal of the Postal Service to add greater value to current postal products and services and to expand the combinations of options that can meet the evolving business requirements of mailers and their customers.

List of Subjects in 39 CFR Part 111

Administrative Practice and Procedure, Postal Service.

The Postal Service, which is exempt from the notice and comment requirements of the Administrative Procedure Act (5 U.S.C. 553(b), (c)) regarding proposed rulemaking by 39 U.S.C. 410(a), adopts, for the reasons discussed above, the following amendments to the Domestic Mail Manual (DMM), which is incorporated by reference in the Code of Federal Regulations (CFR). See 39 CFR part 111.

PART 111—[AMENDED]

1. The authority citation for 39 CFR part 111 continues to read as follows:

Authority: 5 U.S.C. 552(a); 39 U.S.C. 101, 401, 403, 404, 414, 416, 3001-3011, 3201-3219, 3403-3406, 3621, 3626, 5001.

2. Amend Domestic Mail Manual (DMM) as set forth below:

Domestic Mail Manual (DMM)

R Rates and Fees

* * * * *

R900 Services

* * * * *

[Amend R900 by redesignating current 9.0 through 26.0 as 10.0 through 27.0, respectively, and adding new 9.0 to read as follows:]

9.0 CONFIRM (S941)

Fee, in addition to postage and other fees:

Subscription level | Subscription fee and term | Additional ID code fee and term | Additional scans fee and number
Silver | $ 2,000, 3 months | $500 each, 3 months | $500, block of 2 million scans.
Gold | 4,500, 12 months | 500 each, 3 months | 750, block of 6 million scans.
Platinum | 10,000, 12 months | 500 each, 3 months | N/A

* * * * *

S Special Postal Services

* * * * *

[Amend module S by adding new S940 and S941 to read as follows:]

S940 Mailpiece Information

S941 Confirm

1.0 BASIC INFORMATION

1.1 Description

Confirm is a service that provides an authorized subscriber with data electronically collected from the optical scanning of specially barcoded mailpieces as they pass through certain automated mail processing operations. Scanned data can include the postal facility where such pieces are processed, the postal operation used to process the pieces, the date and time when the pieces are processed, and the numeric equivalent of two barcodes that help to identify the specific pieces. Any piece intended to generate scanned data must meet the appropriate physical characteristics and standards in S941, although not every properly prepared piece is guaranteed such data or complete data.

1.2 Available Service and Handling

Confirm is available only to authorized subscribers as described in 1.3. The service is associated with the service applications described in 1.6 and subscription levels described in 1.7. Confirm may be used for one or more pieces in a mailing. Mail prepared for Confirm is dispatched and handled in transit as ordinary mail unless combined with a service available for the class of mail and rate claimed that requires different handling.

1.3 Authorization

Confirm requires USPS authorization after applicable fees are paid and technical requirements for certification are met. For certification, a mailer must submit for evaluation and approval mailpieces bearing both PLANET Code barcodes and POSTNET barcodes to the National Customer Support Center (see G043 for address). Certification also includes, if applicable, evaluation and approval of the electronic format and uploading of the Advance Shipping Notice (ASN) file and the associated shipment identification barcode printed on required documentation accompanying mailings. Confirm may be used only after authorization is received, and information generated from the use of the service is provided only if the standards for participation are met.

1.4 Availability

Confirm is available to authorized subscribers for tracking automation-compatible letter-size or flat-size mail in applicable categories of the following classes of mail:

a. First-Class Mail (including Priority Mail).

b. Periodicals.

c. Standard Mail.

d. Package Services.

1.5 Additional Services

Confirm does not preclude or require the use of any special service available for the class of mail and rate claimed.

1.6 Service Applications

The following two service applications are available:

a. Origin Confirm for incoming mail. This use notifies the subscribing mailer of various movements of individual reply pieces, such as courtesy reply or business reply mail being returned by customers, before delivery to the Confirm subscriber.

b. Destination Confirm for outgoing mail. This use notifies the subscribing mailer of various movements of individual pieces, such as letter-size or flat-size pieces in a specific mailing, from the entry of the mailing to final automated processing steps of the pieces before delivery to the destination address.

1.7 Subscription Levels

Confirm is available in three distinct subscription levels as defined below, and a mailer may subscribe to one or more of these levels at the same time, at different times, or at overlapping times:

a. Silver Subscription. The Silver subscription level has a term of 3 consecutive months, includes one five-digit identification code assigned by the USPS, and provides up to 15 million scans. A mailer subscribing to this level may also:

(1) License additional identification codes for a term of 3 consecutive months or until the expiration of the underlying subscription, whichever occurs first.

(2) License additional scans in blocks of 2 million scans at any time before the underlying subscription expires. Unused scans expire at the end of the subscription term.

b. Gold Subscription. The Gold subscription level has a term of 12 consecutive months, includes one five-digit identification code assigned by the USPS, and provides up to 50 million scans. A mailer subscribing to this level may also:

(1) License additional identification codes for a term of 3 consecutive months or until the expiration of the underlying subscription, whichever occurs first.

(2) License additional scans in blocks of 6 million scans at any time before the underlying subscription expires. Unused scans expire at the end of the subscription term.

(3) Raise the subscription level to a Platinum subscription level at any time before the expiration of the Gold subscription by paying the difference of the respective subscription fees. This change in service level does not extend the term of the underlying initial subscription.

c. Platinum Subscription. The Platinum subscription level has a term of 12 consecutive months, includes three five-digit identification numbers assigned by the USPS, and provides an unlimited number of scans. A mailer subscribing to this level may also license additional identification codes for a term of 3 consecutive months or until the expiration of the underlying subscription, whichever occurs first.

1.8 Fees and Postage

The applicable Confirm® subscription fees as defined in 1.7 and shown in R900 must be paid in advance. These subscription fees are separate from the postage and any other applicable fees required for the piece being scanned under this service.

1.9 Deposit

The class of mail and rate claimed and the postage payment method used determine the point of deposit or entry.

2.0 BARCODES

2.1 General Barcode Requirement

At the time of mailing, each piece in a mailing that is intended to generate Confirm information must bear a PLANET Code® barcode. The USPS does not apply subscriber PLANET Code barcodes to mail after deposit by the subscriber. The use of POSTNET barcodes, which must meet the applicable specifications in C840, is as follows:

a. Origin Confirm pieces must bear both a PLANET Code barcode and a POSTNET barcode at the time of mailing. For business reply mail, the POSTNET barcode must correspond to the subscriber's business reply mail ZIP+4 codes assigned by the USPS under S922. For all other reply mail, the POSTNET barcode must correspond to the appropriate 5-digit ZIP Code, ZIP+4 code, or delivery point code for the delivery address.

b. Destination Confirm pieces must bear a PLANET Code barcode and, if required by the rate claimed at the time of mailing, an appropriate POSTNET barcode that corresponds to the delivery address. If a POSTNET barcode is not required by the rate claimed, the mailer has the option to apply the POSTNET barcode to such pieces for optimal Confirm information if the barcode correctly corresponds to the delivery address.

2.2 POSTNET Barcode

The type of POSTNET barcode (e.g., ZIP+4 barcode or delivery point barcode) and the placement of the barcode on a Confirm piece must meet the standards for the rate claimed. If two POSTNET barcodes are applied to the same piece, they must meet these standards:

a. Only one POSTNET barcode may be used in the address block as provided in 2.6.

b. The second POSTNET barcode must be placed outside the address block in a position meeting the applicable standards in C840 for letter-size mail or flat-size mail.

2.3 PLANET Code Barcode Use

Only one PLANET Code barcode may appear on a Confirm piece. For letter-size mail, the PLANET Code barcode may be placed in any position permitted in C840 for a POSTNET barcode except the lower right corner barcode clear zone. For flat-size mail, the PLANET Code barcode may appear in any position of the piece permitted for a POSTNET barcode in C840. Any PLANET Code barcode printed on mail for Confirm information must:

a. Be generated by the method used to receive USPS barcode certification during the application process in 1.3.

b. Meet the barcode specifications in 2.4.

c. Meet the format specifications in 2.5.

2.4 PLANET Code Barcode Specifications

The PLANET Code barcode symbology, which is the inverse of the POSTNET barcode symbology, uses a unique combination of three tall and two short bars to define each digit from 0 to 9. PLANET Code barcodes must meet the same dimensional specifications (including pitch, tilt, and baseline positioning) and print specifications (including reflectance) as required in C840 for POSTNET barcodes and in USPS Publication 197, Customer Guide to Confirm Service. Publication 197 is available from the National Customer Support Center (see G043 for address).

2.5 PLANET Code Barcode Format

PLANET Code barcodes must meet the following format standards required in USPS Publication 197 for service type:

a. Origin Confirm mailpieces (incoming reply mail) require these data fields in the following order from left to right:

(1) Mailpiece type identification: two digits; identifies type of reply mail (courtesy reply mail, business reply mail (BRM), or Qualified BRM) and physical characteristic of piece (letter, card, or flat); defined by USPS.

(2) Customer identification: nine or eleven digits; identifies mailpiece; defined by subscriber.

(3) Check digit: one digit; defined as the number which, when added to the sum of the other digits in the barcode, results in a total that is a multiple of 10.

b. Destination Confirm mailpieces (outgoing mail) require these data fields in the following order from left to right:

(1) Mailpiece type identification: two digits; identifies class of mail and physical characteristic of piece (letter, card, or flat); defined by USPS.

(2) Identification code: five digits; identifies mailer; assigned by USPS.

(3) Mailing: four (or six) digits; identifies specific mailing; defined by subscriber.

(4) Check digit: one digit; defined as the number which, when added to the sum of the other digits in the barcode, results in a total that is a multiple of 10.

2.6 Address Block Barcoding

If both a PLANET Code barcode and a POSTNET barcode are used as part of the delivery address block, the following standards must be met:

a. One barcode must placed in the upper part of the address block in one of two positions:

(1) Between the top address line (the first line of the delivery address block usually containing the recipient's name or attention line) and any keyline, optional endorsement line, or carrier route information line directly above the top address line.

(2) Directly above any keyline, optional endorsement line, or carrier route information line that is directly above the top address line.

b. The other barcode must always be placed directly below the bottom address line (the city, state, and ZIP Code line).

c. Both barcodes must maintain a minimum clearance of 1/25 inch directly above and below the barcodes.

d. The entire address block must be placed on the piece under the applicable standards in C840. The barcodes and address block, along with any keyline, optional endorsement line, or carrier route information line, must maintain the other applicable minimum clearances under C840, including clearances for inserts in window envelopes.

2.7 Reply Mail Barcodes

Reply pieces prepared for the Origin Confirm® service application under 1.6 must meet any applicable format and barcode standards as follows:

a. For business reply mail (BRM), S922.

b. For Qualified BRM, S922.

c. For courtesy reply mail (CRM), C100.

3.0 ADVANCE SHIPPING NOTICE

3.1 Purpose

Every mailing for which Destination Confirm information is desired requires the electronic submission of an Advanced Shipping Notice (ASN), in a specific file format, before or at the time of the mailing. This electronic notice enables the USPS to match mailing data provided by the mailer with actual scans taken on Confirm pieces in the mailing and to generate various reports for analysis from the matched data. A test file transmission must be uploaded and approved before Confirm mailings may be made as provided in 1.3.

3.2 Data Format

The ASN data file is a single data file in comma delimited flat file format. Each record is made up of a single row of data consisting of 16 data elements (fields) as defined in Publication 197. ASN data include specific mailer-generated information about each Destination Confirm mailing, such as drop location, drop date, mailer identification, volume, presort level, and number of pieces bearing PLANET Code® barcodes.

3.3 Shipment ID Barcode

In addition to an electronic ASN transmission for each mailing, an ASN Shipment ID barcode (used as a shipment identification) must be printed on the documentation accompanying the mailing. This documentation is either Form 8125 for mail prepared as a plant-verified drop shipment or Form 3152-A for mail entered and verified at a business mail entry unit. The USPS scans the ASN Shipment ID barcode to “start the clock” for the Destination Confirm mailing and to provide the base point for recording the actual processing time used for the mail. ASN Shipment ID barcode symbology is USS Code 128 Subset B and must meet the technical specifications in Publication 197.

4.0 DELIVERY

Any mailpiece prepared for Confirm is delivered as ordinary mail unless combined with any available service subject to D042.

* * * * *

An appropriate amendment to 39 CFR 111.3 will be published to reflect these changes.

Neva Watson,
Attorney, Legislative.

[FR Doc. 02-20730 Filed 8-14-02; 8:45 am]

BILLING CODE 7710-12-P